DEPARTMENT OF DEFENSE

Department of the Navy

Availability of Government-Owned Inventions for Licensing

AGENCY: Department of the Navy, DOD.

ACTION: Notice.

SUMMARY: The inventions listed below are assigned to the United States Government as represented by the Secretary of the Navy and are made available for licensing by the Department of the Navy.

Copies of patents cited are available from the Commissioner of Patents and Trademarks, Washington, DC 20231, for $3.00 each. Requests for copies of patents must include the patent number.

Copies of patent applications cited are available from the National Technical Information Service (NTIS), Springfield, VA 22161 for $6.95 each ($10.95 outside North American Continent). Requests for copies of patent applications must include the patent application serial number. Claims are deleted from the copies of patent applications sold to avoid premature disclosure.

The following patents and patent applications are available for licensing:

Patent 5,926,507: QUOTIENT CODING MODEM; filed 8 July 1997; patented 20 July 1999.//

Patent 5,951,757: METHOD FOR MAKING SILICON GERMANIUM ALLOY AND ELECTRIC DEVICE STRUCTURES; filed 6 May 1997; patented 14 September 1999.//

Patent 5,960,732: LINE CHARGE DEPLOYMENT APPARATUS; filed 19 December 1997; patented 5 October 1999.//

Patent 5,961,661: CERAMIC STRUCTURE WITH BACKFILLED CHANNELS; filed 16 September 1998; patented 5 October 1999.//Patent 5,961,895: MULTI-STAGE-SYSTEM FOR MICROBUBBLE PRODUCTION; filed 19 June 1997; patented 5 October 1999.//

Patent 5,963,169: MULTIPLE TUBE PLASMA ANTENNA; filed 29 September 1997; patented 5 October 1999.//Patent 5,963,591: SYSTEM AND METHOD FOR STOCHASTIC CHARACTERIZATION OF A SIGNAL WITH FOUR EMBEDDED ORTHOGONAL MEASUREMENT DATA ITEMS; filed 13 September 1996; patented 5 October 1999.//Patent 5,963,887: APPARATUS FOR OPTIMIZING THE ROTATIONAL SPEED OF COOLING FANS; filed 12 November 1996; patented 5 October 1999.//

Patent 5,964,018: BELT REPAIR SYSTEM AND METHOD; filed 15 August 1997; patented 12 October 1999.//Patent 5,964,175: CONFORMAL DETACHABLE PLATFORM ARRAY; filed 25 September 1997; patented 12 October 1999.//

Patent 5,965,199: CORROSION-RESISTANT COATING PREPARED BY THE THERMAL DECOMPOSITION OF LITHIUM PERMANGANATE; filed 29 September 1997; patented 12 October 1999.//Patent 5,965,268: CARBON-BASED COMPOSITES DERIVED FROM PHTHALONITRILE RESINS; filed 26 June 1998; patented 12 October 1999.//

Patent 5,966,414: SYSTEM AND METHOD FOR PROCESSING SIGNALS TO DETERMINE THEIR STOCHASTIC PROPERTIES; filed 28 March 1995; patented 12 October 1999.//Patent 5,966,858: BAFFLED MUZZLE BRAKE AND SEAL SYSTEM FOR SUBMERGED GUN OPERATION; filed 23 March 1998; patented 19 October 1999.//

Patent 5,967,012: WASTE AEROSOL CONTAINER PROCESSOR; filed 19 November 1996; patented 19 October 1999.//

Patent 5,969,072: SILYL AND SILOXYL SUBSTITUTED CARBORANES WITH UNSATURATED ORGANIC END GROUPS; filed 27 February 1998; patented 19 October 1999.//Patent 5,969,244: SWITCH ASSEMBLY FOR WITHSTANDING SHOCK AND VIBRATION; filed 13 April 1998; patented 19 October 1999.//Patent 5,969,429: BREATHING APPARATUS HAVING ELECTRICAL POWER SUPPLY ARRANGEMENT WITH TURBINE-GENERATOR ASSEMBLY; filed 15 August 1997; patented 19 October 1999.//Patent 5,969,581: OPTO-ELECTRONICALLY CONTROLLED RF WAVEGUIDE; filed 28 May 1998; patented 19 October 1999.//Patent 5,969,608: MAGNETO-INDUCTIVE SEISMIC FENCE; filed 23 February 1998; patented 19 October 1999.//Patent 5,969,978: READ/WRITE MEMORY ARCHITECTURE EMPLOYING CLOSED RING ELEMENTS; filed 30 September 1998; patented 19 October 1999.//

Patent 5,970,779: SYSTEM AND METHOD FOR CALIBRATING ACCELEROMETER OVER LOW(OCEAN WAVE) FREQUENCIES; filed 15 September 1997; patented 26 October 1999.//Patent 5,970,899: DIAGONAL HATCH SYSTEM FOR SHIPS; filed 14 August 1997; patented 26 October 1999.//

Patent 5,972,136: LIQUID PROPELLANT; filed 9 May 1997; patented 26 October 1999.//Patent 5,972,714: ATMOSPHERIC OZONE CONCENTRATION DETECTOR; filed 29 March 1996; patented 26 October 1999.//

Patent 5,973,051: MASS LOADED COATING AND METHOD FOR REDUCING THE RESONANT FREQUENCY OF A CERAMIC DISC; filed 27 September 1993; patented 26 October 1999.//Patent 5,973,653: INLINE COAXIAL BALUN-FED ULTRAWIDEBAND CORNU FLAREDORN ANTENNA; filed 31 July 1997; patented 26 October 1999. //Patent 5,973,824: AMPLIFICATION BY MEANS OF DYSPROSIUM DOPED LOW PHONON ENERGY GLASS WAVEGUIDES; filed 29 August 1997; patented 26 October 1999.//Patent 5,973,994: SURFACE LAUNCHED SONOBUOY; filed 20 April 1998; patented 26 October 1999.//

Patent 5,975,942: MECHANICAL STRAIN RELIEF; filed 19 September 1997; patented 2 November 1999.//

Patent 5,976,444: NANOCHANNEL GLASS REPLICA MEMBRANES; filed 24 September 1996; patented 2 November 1999.//

Patent 5,977,918: EXTENDIBLE PLANAR PHASED ARRAY MAST; filed 25 September 1997; patented 2 November 1999.//

Patent 5,978,646: METHOD AND APPARATUS FOR SIMULATING A LOFARGRAM IN A MULTIPATH SONAR SYSTEM; filed 10 July 1997; patented 2 November 1999.//Patent 5,978,647: METHOD AND APPARATUS FOR SIMULATING AUTOCORRELATION COEFFICIENTS IN A MULTIPATH SONAR SYSTEM; filed 10 July 1997; patented 2 November 1999.//Patent 5,978,834: PLATFORM INDEPENDENT COMPUTER INTERFACE SOFTWARE RESPONSIVE TO SCRIPTED COMMANDS; filed 30 September 1997; patented 2 November 1999.//

Patent 5,980,853: AROMATIC ACETYLENES AS CARBON PRECURSORS; filed 8 October 1998; patented 9 November 1999.//

Patent 5,981,297: BIOSENSOR USING MAGNETICALLY-DETECTED LABEL; filed 5 February 1997; patented 9 November 1999.//Patent 5,981,678: POLYMER PRECURSOR COMPOSITION, CROSSLINKED POLYMERS, THERMOSETS AND CERAMICS MADE WITH SILYL AND SILOXYL SUBSTITUTED CARBORANES WITH UNSATURATED ORGANIC END GROUPS; filed 27 February 1998; patented 9 November 1999.//

Patent 5,982,420: AUTOTRACKING DEVICE DESIGNATING A TARGET; filed 21 January 1997; patented 9 November 1999.//

Patent 5,983,067: METHOD AND APPARATUS FOR SIMULATING CROSS-CORRELATION COEFFICIENTS IN A MULTIPATH SONAR SYSTEM; filed 10 July 1997; patented 9 November 1999.//Patent 5,983,821: MULTILINE TOW CABLE ASSEMBLY INCLUDING SWIVEL AND SLIP RING; filed 12 August 1998; patented 16 November 1999.//

Patent 5,985,173: PHOSPHORS HAVING A SEMICONDUCTOR HOST SURROUNDED BY A SHELL; filed 18 November 1997; patented 16 November 1999.//Patent 5,985,523: METHOD FOR IRRADIATING PATTERNS IN OPTICAL WAVEGUIDES CONTAINING RADIATION SENSITIVE CONSTITUENTS; filed 9 September 1996; patented 16 November 1999.//

Patent 5,986,032: LINEAR METALLOCENE POLYMERS CONTAINING ACETYLENIC AND INORGANIC UNITS AND THERMOSETS AND CERAMICS THEREFROM; filed 14 March 1997; patented 16 November 1999.//Patent 5,986,757: CORRECTION OF SPECTRAL INTERFERENCES ARISING FROM CN EMISSION IN CONTINUOUS AIR MONITORING USING INDUCTIVELY COUPLED PLASMA ATOMIC EMISSION SPECTROSCOPY; filed 17 September 1997; patented 16 November 1999.//Patent 5,986,784: ADAPTIVE POLARIZATION DIVERSITY DETECTION SCHEME FOR COHERENT COMMUNICATIONS AND INTERFEROMETRIC FIBER SENSORS; filed 12 December 1994; patented 16 November 1999.//

Patent 5,987,362: FINAL APPROACH TRAJECTORY CONTROL WITH FUZZY CONTROLLER; filed 6 October 1997; patented 16 November 1999.//Patent 5,987,397: NEURAL NETWORK SYSTEM FOR ESTIMATION OF HELICOPTER GROSS WEIGHT AND CENTER OF GRAVITY LOCATION; filed 13 March 1998; patented 23 November 1999.//Patent 5,987,962: COPPER CRUSHER GAUGE HOLDER; filed 15 September 1997; patented 23 November 1999.//

Patent 5,989,087: LIDAR DETECTION USING SHADOW ENHANCEMENT; filed 18 March 1998; patented 23 November 1999.//

Patent 5,990,679: METHOD USING CORRECTIVE FACTORS FOR DETERMINING A MAGNETIC GRADIENT; filed 22 October 1997; patented 23 November 1999.//Patent 5,990,829: SPINNING FOCAL PLANE ARRAY CAMERA PARTICULARLY SUITED FOR REAL TIME PATTERN RECOGNITION; filed 3 July 1998; patented 23 November 1999.//

Patent 5,991,036: TWO-DIMENSIONAL OPTO-ELECTRONIC IMAGER FOR MILLIMETER AND MICROWAVE ELECTRO-MAGNETIC RADIATION; filed 30 September 1997; patented 23 November 1999.//Patent 5,991,537: VXI TEST EXECUTIVE; filed 16 September 1997; patented 23 November 1999.//Patent 5,991,815: METHOD OF SUPPLYING MULTIPLE LOADS FROM MULTIPLE SOURCES OVER AN INTERCONNECTED NETWORK OF DEFINED PATHS; filed 19 June 1997; patented 23 November 1999.//Patent 5,991,829: METHOD OF SENSING TARGET STATUS IN A LOCAL AREA NETWORK; filed 29 March 1994; patented 23 November 1999.//

Patent 5,992,077: NOSE CONE AND METHOD FOR ACOUSTICALLY SHIELDING AN UNDERWATER VEHICLE SONAR ARRAY; filed 18 March 1998; patented 30 November 1999.//Patent 5,992,226: APPARATUS AND METHOD FOR MEASURING INTERMOLECULAR INTERACTIONS BY ATOMIC FORCE MICROSCOPY; filed 8 May 1998; patented 30 November 1999.//Patent 5,992,584: DASHPOT FOR POWER CYLINDER; filed 26 March 1996; patented 30 November 1999.//

Patent 5,994,610: METHOD OF SUPPRESSING THERMITE REACTIONS IN PLASMA ARC WASTE DESTRUCTION SYSTEM; filed 8 May 1998; patented 30 November 1999.//Patent 5,994,884: BOOSTER CIRCUIT FOR FOLDBACK CURRENT LIMITED POWER SUPPLIES; filed 27 August 1998; patented 30 November 1999.//

Patent 5,995,803: METHOD AND APPARATUS FOR SIMULATING A MULTIPATH SONAR SYSTEM; filed 10 July 1997; patented 30 November 1999.//

Patent 5,996,401: LEAK TEST ADAPTER SYSTEM; filed 27 August 1998; patented 7 December 1999.//Patent 5,996,503: REUSABLE GAS-POWERED HAND GRENADE; filed 27 April 1998; patented 7 December 1999.//Patent 5,996,525: BELLMOUTH EXIT ANGLE ADAPTER; filed 6 July 1998; patented 7 December 1999.//Patent 5,996,630: SYSTEM FOR SUPPRESSING CAVITATION IN A HYDRAULIC COMPONENT; filed 18 March 1998; patented 7 December 1999.//

Patent 5,997,138: DIVER'S FACE MASK HAVING ASPHERIC, AFOCAL LENS SYSTEM PROVIDING UNIT MAGNIFICATION FOR USE AS A WINDOW BETWEEN AIR AND WATER; filed 20 July 1998; patented 7 December 1999.//

Patent 5,998,874: ULTRAHIGH DENSITY CHARGE TRANSFER DEVICE; filed 13 October 1994; patented 7 December 1999.//

Patent 5,999,212: METHOD AND APPARATUS FOR INFRARED DETECTION OF A MOVING TARGET IN THE PRESENCE OF SOLAR CLUTTER; filed 31 July 1997; patented 7 December 1999.//Patent 5,999,292: SAGNAC INTERFEROMETER AMPLITUDE MODULATOR BASED DEMULTIPLEXER; filed 20 February 1998; patented 7 December 1999.//Patent 5,999,893: CLASSIFICATION SYSTEM AND METHOD USING COMBINED INFORMATION TESTING; filed 2 May 1997; patented 7 December 1999.//

Patent 6,000,851: ADJUSTABLE ELECTRIC MOTOR BEARING SYSTEM; filed 10 December 1997; patented 14 December 1999.//

Patent 6,001,237: ELECTROCHEMICAL FABRICATION OF CAPACITORS; filed 2 December 1997; patented 14 December 1999.//Patent 6,001,587: CHEMICALLY SPECIFIC PATTERNING ON SOLID SURFACES USING SURFACE IMMOBILIZED ENZYMES; filed 8 April 1997; patented 14 December 1999.//Patent 6,001,715: NON-THERMAL PROCESS FOR ANNEALING CRYSTALLINE MATERIALS; filed 26 June 1996; patented 14 December 1999.//Patent 6,001,926: FIBER-REINFORCED PHTHALONITRILE COMPOSITE CURED WITH LOW-REACTIVITY AROMATIC AMINE CURING AGENT; filed 2 October 1997; patented 14 December 1999.//

Patent 6,002,649: TAPERED CYLINDER ELECTRO-ACOUSTIC TRANSDUCER WITH REVERSED TAPERED DRIVER; filed 16 September 1997; patented 14 December 1999.//Patent 6,002,914: METHOD AND APPARATUS FOR SIMULATING REVERBERATION IN A MULTIPATH SONAR SYSTEM; filed 10 July 1997; patented 14 December 1999.//

Patent 6,005,568: COMPUTER SYSTEM PROVIDING PLATFORM INDEPENDENT UNIVERSAL CLIENT DEVICE; filed 30 September 1997; patented 21 December 1999.//

Patent 6,006,145: METHOD AND APPARATUS FOR DIRECTING A PURSUING VEHICLE TO A TARGET WITH INTELLIGENT EVASION CAPABILITIES; filed 30 June 1997; patented 21 December 1999.//

Patent 6,007,278: DEVICE FOR MACHINING AN INTERIOR SURFACE OF A TUBULAR OBJECT; filed 5 September 1996; patented 28 December 1999.//Patent 6,007,926: PHASE STABILIZATION OF ZIRCONIA; filed 30 January 1997; patented 28 December 1999.//

Patent 6,008,641: METHOD USING CORRECTIVE FACTORS FOR ALIGNING A MAGNETIC GRADIOMETER; filed 22 October 1997; patented 28 December 1999.//

Patent 6,009,045: ADVANCED VERTICAL ARRAY BEAMFORMER; filed 13 August 1998; patented 28 December 1999.//Patent 6,009,185: NEURAL NETWORK BASED CONTACT STATE ESTIMATOR; filed 7 May 1996; patented 28 December 1999.//

Patent application 09/111,370: CLASSIFICATION OF IMAGES USING A DICTIONARY OF COMPRESSED TIME-FREQUENCY ATOMS; filed 30 June 1998.//

Patent application 09/287,170: FLOW RELEASE ELASTOMERIC EJECTION SYSTEM; filed 2 April 1999.//

Patent application 09/332,407: PRECISION HINGE MOUNTING STOPS; filed 14 June 1999.//Patent application 09/337,222: FLEXIBLE CABLE PROVIDING EMI SHIELDING; filed 7 June 1999.//Patent application 09/379,210: SYSTEM AND METHOD FOR DETECTION OF WHITE NOISE IN SPARSE DATA SETS; filed 20 August 1999.//

Patent application 09/435,832: OPTICAL FILTERS BASED ON UNIFORM ARRAYS OF METALLIC WAVEGUIDES; filed 8 November 1999.//

Patent application 09/448,765: INTEGRATED OBJECT-ORIENTED FRAMEWORK FOR MULTIPLE DATA TYPES; filed 24 November 1999.//

Patent application 09/450,439: PRODUCTION OF HOLLOW METAL MICROCYLINDERS FROM LIPIDS; filed 30 November 1999.//Patent application 09/451,718: ZEUS++ CODE TOOL, A METHOD FOR IMPLEMENTING SAME, AND STORAGE MEDIUM STORING COMPUTER READABLE INSTRUCTIONS FOR INSTANTIATING THE ZEUS++CODE TOOL; filed 1 December 1999.//Patent application 09/457,007: A TECHNIQUE FOR ESTIMATING THE POSE OF SURFACE SHAPES USING TRIPOD OPERATORS; filed 8 December 1999.//Patent application 09/457,521: METHOD AND DESIGN FOR THE SUPPRESSION OF SINGLE EVENT UPSET FAILURES IN DIGITAL CIRCUITS MADE FROM GAAS AND RELATED COMPOUNDS; filed 9 December 1999.//

Patent application 09/464,090: PENTACENE DERIVATIVES AS RED EMITTERS IN ORGANIC LIGHT EMITTING DEVICES; filed 16 December 1999.//

Patent application 09/476,332: AUTONOMOUS SURVEY SYSTEM (AUTO SURVEY); filed 3 January 2000.//Patent application 09/477,147: ENERGY ABSORBING COUNTERMASS ASSEMBLY; filed 5 January 2000.//Patent application 09/477,149: ROCKET MOTOR WITH DESENSITIZER INJECTOR; filed 4 January 2000.//Patent application 09/477,941: CHEMICAL AND BIOLOGICAL WARFARE DECONTAMINATING SOLUTION USING BLEACH ACTIVATORS; filed 5 January 2000.//

Patent application 09/480,422: DUAL ADJUSTING OVERRIDE PRECISION SWITCH ACTIVATOR; filed 10 January 2000.//Patent application 09/480,535: PARTICLE SIZING TECHNIQUE; filed 10 January 2000.//Patent application 09/504,396: AIR SUPPLY SYSTEM PARTICULARLY SUITED TO REMOVE CONTAMINANTS CREATED BY CHEMICAL, BIOLOGICAL OR RADIOLOGICAL CONDITIONS; filed 15 February 2000.//

FOR FURTHER INFORMATION CONTACT: Mr. John G. Wynn, Associate Counsel, Intellectual Property, Office of Naval Research (Code 00CC), Arlington, VA 22217-5660, telephone (703) 696-4004.

(Authority: 35 U.S.C. 207; 37 CFR Part 404)

Dated: May 12, 2000.
J. L. Roth,
Lieutenant Commander, Judge Advocate General's Corps, U.S. Navy, Federal Register Liaison Officer.

[FR Doc. 00-12998 Filed 5-23-00; 8:45 am]

BILLING CODE 3810-FF-P